DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains in consultation with the appropriate Indian tribes, and has determined that there is no cultural affiliation between the remains and any present-day Indian tribe. Representatives of any Indian tribe that believes itself to be culturally affiliated with the human remains may contact the Minnesota Indian Affairs Council. Disposition of the human remains to the Indian tribes stated below may occur if no additional requestors come forward.

DATES: Representatives of any Indian tribe that believes it has a cultural affiliation with the human remains should contact the Minnesota Indian Affairs Council at the address below by March 7, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains in the possession of the Minnesota Indian Affairs Council. The human remains were removed from the following counties in Minnesota: Aitkin, Crow Wing, and Kanabec.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Minnesota Indian Affairs Council (MIAC) professional staff in consultation with representatives of the Bad River Band of the Lake Superior Tribe of Chippewa Indians of the Bad River Reservation, Wisconsin; Bois Forte Band (Nett Lake) of the Minnesota Chippewa Tribe, Minnesota; Fond du Lac Band of the Minnesota Chippewa Tribe, Minnesota; Grand Portage Band of the Minnesota Chippewa Tribe, Minnesota; Keweenaw Bay Indian Community, Michigan; Lac Courte Oreilles Band of Lake Superior Chippewa Indians of Wisconsin; Lac Vieux Desert Band of Lake Superior Chippewa Indians, Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; Sokaogon Chippewa Community, Wisconsin; St. Croix Chippewa Indians of Wisconsin; and the White Earth Band of Minnesota Chippewa Tribe, Minnesota (hereinafter referred to as “The Tribes”).

History and Description of the Remains

At an unknown date, human remains representing 33 individuals were removed from site 21-AK-9, Battle Island, in Big Sandy Lake, Aitkin County, MN by Mr. Eugene Grolla. In 1966, the human remains were donated to the Minnesota Historical Society (MHS 150.6) and in 1987, they were transferred to the MIAC. No known individuals were identified. No associated funerary objects are present.

Additional remains from this site were published in a Federal Register notice (64 FR 43220, Monday, August 9, 1999). These human remains are associated with the Woodland Tradition, a broad archeological classification which cannot be associated with any present-day Indian tribe.

During the 1970s, human remains representing eight individuals were removed from a bulldozed mound located on the southeast tip of Platte Lake during archeological recovery by Richard Lane, St. Cloud State University (Acc. 103). The mound may have been located in either Crow Wing County, MN or Morrison County, MN. In 1992, the human remains were transferred to the MIAC (H233B). No known individuals were identified. No associated funerary objects are present.

These human remains may be associated with the Woodland Tradition, a broad archeological classification which cannot be associated with any present-day Indian tribe.

During the 1960s, human remains representing one individual were recovered from an unknown location in the city of Brainerd, Crow Wing County, MN by unknown person(s). In 1995, the human remains were donated to the MIAC (H298). No known individuals were identified. No associated funerary objects were present.

The condition of the bones suggests the remains are ancient while; morphologically, the femora indicate American Indian ancestry. These human remains have no archeological classification and cannot be associated with any present-day Indian tribe.

At an unknown date, human remains representing one individual were removed from an undesignated mound site in Crow Wing County, MN by unknown person(s) and donated to the Crow Wing County Historical Society (Acc. 73-69). In 1995, the remains were transferred to the Minnesota Office of the State Archeologist. In 1997, the human remains were transferred to the MIAC (H330). No known individuals were identified. No associated funerary objects are present.

These human remains may be associated with the Woodland Tradition, a broad archeological classification which cannot be associated with any present-day Indian tribe.

In the 1920s and 1930s, human remains representing one individual were removed from an undesignated location in the Pequot Lakes area, Crow Wing County, MN by a collector from the region. In 1975, the human remains were donated to the Crow Wing County Historical Society (Acc. 1226) as part of the Gustavson collection. In 1998, the human remains were donated to the Minnesota Office of the State Archaeologist by the descendants of the collector. In 2002, the human remains were transferred to the MIAC (H385). No known individuals were identified. No associated funerary objects are present.

Based on their condition, the human remains belong to a pre-contact, American Indian individual. These human remains have no archeological classification and cannot be associated with any present-day Indian tribe.

At an unknown date, human remains representing one individual were recovered from a mound near Fish Lake, site 21KA12, Kanabec County, MN by unknown person(s). In 2002, the human remains were transferred to the Minnesota Office of the State Archaeologist and then to the Minnesota MIAC (H406). No known individuals were identified. No associated funerary objects are present.

These human remains are associated with the Woodland Tradition, a broad archeological classification which cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains were removed is the aboriginal land of The Tribes.

• Pursuant to 25 U.S.C. 3001(9), the human remains described in this notice represent the physical remains of 45 individuals of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before March 7, 2012. Disposition of the human remains to The Tribes may proceed after that date if no additional requestors come forward.

The Minnesota Indian Affairs is responsible for notifying The Tribes that this notice has been published.

Dated: January 31, 2012.
Sherry Hutt,
Manager, National NAGPRA Program.

[FR Doc. 2012-2524 Filed 2-3-12; 8:45 am]

BILLING CODE 4312-50-P